DEPARTMENT OF COMMERCE

International Trade Administration

[A-412-822]

Stainless Steel Bar From the United Kingdom: Notice of Initiation and Preliminary Results of Changed Circumstances Review, and Intent To Revoke Order in Part

AGENCY: Import Administration, International Trade Administration, Department of Commerce.

DATES: Effective Dates: October 11, 2007.

SUMMARY: Swagelok Company (Swagelok), an interested party, filed a request for the Department to initiate a changed circumstances review of the antidumping duty order on stainless steel bar from the United Kingdom. Carpenter Technology Corp., Crucible Specialty Metals Division of Crucible Materials Corp., Electralloy Corp., North American Stainless, Universal Stainless & Alloy Products, Inc., and Valbruna Slater Stainless, Inc. (collectively the Domestic Industry) submitted a letter to the Department expressing a lack of interest in continuing to have the product in question subject to the antidumping duty order. The Domestic Industry also stated that it is a major domestic producer of stainless steel bar. Therefore, we are notifying the public of our intent to revoke, in part, the antidumping duty order as it relates to imports of SAF 2507 grade stainless steel bar from the United Kingdom. Interested parties are invited to comment on these preliminary results.

FOR FURTHER INFORMATION CONTACT: Kate Johnson or Rebecca Trainor, AD/CVD Operations, Office 2, Import Administration, International Trade Administration, U.S. Department of Commerce, 14th Street and Constitution Avenue, NW., Washington, DC 20230; telephone: (202) 482-4929 or (202) 482-4007, respectively.

SUPPLEMENTARY INFORMATION:

Background

On March 7, 2002, the Department published in the Federal Register an antidumping duty order on stainless steel bar from the United Kingdom. See Antidumping Duty Order: Stainless Steel Bar from the United Kingdom, 67 FR 10381 (March 7, 2002). On August 27, 2007, Swagelok, an interested party, requested that the Department initiate a changed circumstances review to exclude a certain stainless steel bar product (SAF 2507 grade bar) from the antidumping duty order on stainless steel bar from the United Kingdom. On September 18, 2007, the Domestic Industry submitted a letter affirming that the Domestic Industry does not object to the exclusion of the product identified in the August 27, 2007, request submitted by Swagelok for a changed circumstances review with respect to the antidumping duty order on stainless steel bar from the United Kingdom. On September 21, 2007, the petitioners submitted a statement affirming that they account for substantially all of the U.S. production of stainless steel bar, exceeding 85 percent of total domestic production. On September 25, 2007, Sandvik Bioline, a U.K. producer of stainless steel bar, provided a technical description of the stainless steel bar product Swagelok has requested to be excluded from the scope of the antidumping duty order.¹

¹ Sandvik Bioline is the producer of the product which is the subject of Swagelok's changed circumstances review request.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections. The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, the written description of the scope of this order is dispositive.

Initiation and Preliminary Results of Changed Circumstances Review, and Intent To Revoke Order in Part

At the request of Swagelok, and in accordance with sections 751(d)(1) and 751(b)(1) of the Act, and 19 CFR 351.216, the Department is initiating a changed circumstances review of the antidumping duty order on stainless steel bar from the United Kingdom to determine whether partial revocation of this order is warranted with respect to SAF 2507 grade stainless steel bar. Section 782(h)(2) of the Act and 19 CFR 351.222(g)(1)(i) provide that the Department may revoke an order (in whole or in part) if it determines that producers accounting for substantially all of the production of the domestic like product have no further interest in the order, in whole or in part. In addition, in the event that the Department determines that expedited action is warranted, 19 CFR 351.221(c)(3)(ii) permits the Department to combine the notices of initiation and preliminary results.

In accordance with section 751(b) of the Act, and 19 CFR 351.222(g)(1)(i) and 351.221(c)(3), we are initiating this changed circumstances review and have determined that expedited action is warranted. We find that the petitioners' affirmative statement of no interest constitutes good cause for the conduct of this review. Additionally, our decision to expedite this review stems from the Domestic Industry's lack of interest in applying the antidumping duty order to the specific stainless steel bar product (i.e., SAF 2507 grade bar) covered by this request.

Based on the expression of no interest by the petitioners and absent any objection by any other domestic interested parties, we have preliminarily determined that substantially all of the domestic producers of the like product have no interest in the continued application of the antidumping duty order on stainless steel bar to SAF 2507 grade bar. Therefore, we are notifying the public of our intent to revoke, in part, the antidumping duty order as it relates to imports of SAF 2507 grade stainless steel bar from the United Kingdom.

We intend to change the scope of the order with respect to excluded products to read as follows:

Except as specified above, the scope does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

Also excluded from the scope of the order is grade SAF 2507 stainless steel bar. SAF 2507 is cold worked and finished Super Duplex stainless steel bar material in round and hexagonal form, conforming to UNS S32750, having elevated ultimate tensile strength in excess of 140Ksi minimum and a PRE (pitting resistant equivalent) value of 42.5 minimum, supplied in straight bar lengths. SAF 2507 grade stainless steel bar is currently classified under HTSUS subheadings 7222.20.00.45 and 7222.20.00.75.

Public Comment

Interested parties are invited to comment on these preliminary results. Written comments may be submitted no later than 14 days after the date of publication of these preliminary results. Rebuttals to written comments, limited to issues raised in such comments, may be filed no later than 21 days after the date of publication. The Department will issue the final results of this changed circumstances review, which will include the results of its analysis raised in any such written comments, no later than 270 days after the date on which this review was initiated, or within 45 days if all parties agree to our preliminary results. See 19 CFR 351.216(e).

If final revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

This initiation and preliminary results of review are in accordance with section 751(b) of the Act and 19 CFR 351.216, 351.221, and 351.222.

October 4, 2007.
David M. Spooner,
Assistant Secretary for Import Administration.

[FR Doc. E7-20065 Filed 10-10-07; 8:45 am]

BILLING CODE 3510-DS-P